DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR Part 1320, Reporting and Record Keeping Requirements, the National Park Service (NPS) invites public comments on a proposed new collection of information (OMB# 1024-xxxx).

DATES: Public comments on this Information Collection Request (ICR) will be accepted on or before April 24, 2009.

ADDRESSES: Send Comments To: Wayne Freimund, Arkwright Professor of Protected Area Studies, University of Montana, College of Forestry and Conservation, 32 Campus Drive, CHCB 463, Missoula, MT 59812, (406) 243-5184, wayne.freimund@umontana.edu. Also, you may send comments to Leonard Stowe, NPS Information Collection Clearance Officer, 1849 C St., NW., (2605), Washington, DC 20240; or by e-mail at Leonard_stowe@nps.gov. All responses to this notice will be summarized and included in the request for the Office of Management and Budget (OMB) approval. All comments will become a matter of public record.

To Request a Draft of Proposed Collection of Information Contact: Wayne Freimund, Arkwright Professor of Protected Area Studies, University of Montana, College of Forestry and Conservation, 32 Campus Drive, CHCB 463, Missoula, MT 59812; or via phone at 406/243-5184; or via e-mail at wayne.freimund@umontana.edu, or Jack Potter, Chief of Science and Resource Management, Glacier National Park, NPS, P.O. Box 128, West Glacier, MT 59936; or via phone at 406/888-7821; or via e-mail at jack_potter@nps.gov.

FOR FURTHER INFORMATION CONTACT: Dr. James Gramann, NPS Social Science Program, 1201 “Eye” St., Washington, DC 20005; or via phone at 202/513-7189; or via e-mail at James_Gramann@partner.nps.gov. You are entitled to a copy of the entire ICR package free of charge once the package is submitted to OMB for review. You can access this ICR at http://www.reginfo.gov/public/.

SUPPLEMENTARY INFORMATION: Title: Understanding Glacier National Park Visitors' Beliefs about Climate Change.

Bureau Form Number(s): None.

OMB Number: To be requested.

Expiration Date: To be requested.

Type of Request: New Collection.

Description of Need: The National Park Service (NPS) Organic Act of 1916, as amended and supplemented, 16 U.S.C. 1, et seq., requires that the NPS preserve national parks for the use and enjoyment of present and future generations. Climate change may significantly impact the conditions in Glacier National Park (GNP), which among other predicted impacts, may lose its glaciers in the next twenty-five years. In order to develop effective responses to climate change impacts on both natural resources and visitor experiences in GNP, park managers need better information on what park visitors believe about climate change, the connections they make between climate change and GNP, and strategies to effectively educate park visitors about climate change and ways to reduce its impacts.

The NPS and GNP are currently developing a range of responses to climate change including educational programming. A centerpiece of these education programs is the Do Your Part for Climate Friendly Parks initiative, which asks park visitors to assess their personal contribution to climate change and then make commitments to lower their carbon footprint to help protect a national park of their choice from the impacts of climate change. This website was launched in the summer of 2008. GNP visitors may be a prime audience for this website, as melting glaciers in the park is one of the more obvious symbols of climate change impacts in the National Park System. However, more information is needed about visitors' beliefs about climate change to make this website as effective as possible. In addition, GNP implemented a mass transit system in the summer of 2007 as part of a major reconstruction of the Going to the Sun Road. Surveys of visitor attitudes about the shuttles found that a large percentage of GNP shuttle riders chose to ride the shuttle to protect the environment of the park. However, further understanding of the connections people make between protecting the environment, reducing climate change and mass transit in general and the GNP shuttle in particular will help park managers develop more effective climate change response and education strategies.

The primary objectives of this research are to provide information that will assist the GNP staff in developing climate change education programming and to develop recommendations for improving the Do Your Part for Climate Friendly Parks initiative. Specifically, this research will seek to understand the connections visitors make between riding the shuttle, protecting the environment of Glacier National Park (GNP), and reducing potential impacts of climate change on GNP, and to assess their awareness of and willingness to utilize the planned Do Your Part for Climate Friendly Parks Web-based initiative.

Automated data collection: This information will be collected by on-site, through self completed surveys. No automated data collection will be used. Responding is voluntary.

Description of respondents: Visitors to Glacier National Park who visit between July 1, 2009, and August 31, 2009.

Estimated average number of respondents: We will contact 550 individuals stratified by weekend and weekday periods and expect 495, or 90 percent, to agree to respond.

Estimated average number of responses: We expect to collect 495 completed surveys.

Estimated average time burden per respondent: 1 minute for non-respondents and 5 minutes for respondents.

Frequency of Response: 1 time per respondent.

Estimated total annual reporting burden: 50 hours per year.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: February 11, 2009.
Leonard E. Stowe,
NPS, Information Collection Clearance Officer.

[FR Doc. E9-3789 Filed 2-20-09; 8:45 am]

BILLING CODE 4310-70-P